DEPARTMENT OF HEALTH AND HUMAN SERVICES

[Document Identifier: OS 4040-0008]

Agency Information Collection Request; 30-Day Public Comment Request

AGENCY: Office of the Secretary, Health and Human Services.

ACTION: Notice.

SUMMARY: In compliance with the requirement of the Paperwork Reduction Act of 1995, the Office of the Secretary (OS), Department of Health and Human Services, is publishing the following summary of a proposed collection for public comment.

DATES: Comments on the ICR must be received on or before June 16, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sagal Musa, sagal.musa@hhs.gov, or call (202) 578-5441. When submitting comments or requesting information, please include the document identifier 4040-0008-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collections: Budget Information for Construction Programs (SF-424C).

Type of Collection: Reinstatement.

OMB No.: 4040-0008.

Abstract: Budget Information for Construction Programs (SF-424C) is used by applicants to apply for Federal financial assistance. The Budget Information for Construction Programs (SF-424C) form allows the applicants to provide budget details as part of their grant proposals. This form is evaluated by Federal agencies as part of the overall grant application. This IC expired on February 28, 2025. Grants.gov is seeking reinstatement without change of this information collection and a three-year clearance.

Annualized Burden Hour Table
Forms (if necessary) | Respondents (if necessary) | Number of respondents | Number of responses per respondents | Average burden per response | Total burden hours
Budget Information for Construction Programs (SF-424C) | Grant Applicants | 239 | 1 | 1 | 239
Total |  | 239 | 1 | 1 | 239

Susan R. Little,
Department Information Collection Clearance Officer, Paperwork Reduction Act Program, Department of Health and Human Services.

[FR Doc. 2025-08674 Filed 5-14-25; 8:45 am]

BILLING CODE 4151-AE-P